DEPARTMENT OF JUSTICE

Notice of Lodging of Proposed Consent Decree

In accordance with Departmental Policy, 28 CFR 50.7, notice is hereby given that a proposed Consent Decree in United States v. Elmore Sand & Gravel, Inc., Case No. 2:25-cv-60, was lodged with the United States District Court for the Middle District of Alabama on January 17, 2025.

This proposed Consent Decree concerns a complaint filed by the United States against Defendant Elmore Sand & Gravel, Inc., pursuant to Section 309 of the Clean Water Act, 33 U.S.C. 1319, to obtain injunctive and other appropriate relief from the Defendant for violating the Clean Water Act by discharging pollutants without authorization into waters of the United States. The proposed Consent Decree resolves these allegations by requiring the Defendant to perform mandatory injunctive relief (including stabilization, remediation, wastewater management, enhancement, mitigation, and preservation measures) and subjects the Defendant to other appropriate relief.

The Department of Justice will accept written comments relating to this proposed Consent Decree for thirty (30) days from the date of publication of this Notice. Please address comments by mail to Andrew Doyle and Martin McDermott, United States Department of Justice, Environment and Natural Resources Division, Environmental Defense Section, Post Office Box 7611, Washington, DC 20044, or by email to pubcomment_eds.enrd@usdoj.gov and refer to United States v. Elmore Sand & Gravel, Inc., DJ No. 90-5-1-1-21374.

The proposed Consent Decree may be examined at the Clerk's Office, United States District Court for the Middle District of Alabama, One Church Street, Montgomery, AL 36104. In addition, the proposed Consent Decree may be examined electronically at https://www.justice.gov/enrd/consent-decrees.

Cherie Rogers,
Assistant Section Chief, Environmental Defense Section, Environment and Natural Resources Division, United States Department of Justice.

[FR Doc. 2025-01668 Filed 1-23-25; 8:45 am]

BILLING CODE P